DEPARTMENT OF COMMERCE

National Oceanic and Atmospheric Administration

RIN 0648-XA923

Gulf of Mexico Fishery Management Council (Council); Public Meetings

AGENCY: National Marine Fisheries Service (NMFS), National Oceanic and Atmospheric Administration (NOAA), Commerce.

ACTION: Notice of public meetings.

SUMMARY: The Gulf of Mexico Fishery Management Council will convene public meetings.

DATES: The meetings will be held January 30-February 2, 2012.

ADDRESSES: The meetings will be held at the Renaissance Riverview Hotel; 64 S. Water Street, Mobile, AL 36602; telephone: (251) 438-4000.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION:

Committees

Monday, January 30, 2012

1 p.m.-2 p.m.—Scientific & Statistical Committee (SSC) Selection Committee will discuss duties and responsibilities of the SSC.

2 p.m.-4 p.m.—Mackerel Management Committee will review scoping documents for Amendment 19—No Sale and Permits and Amendment 20—Boundaries and Transit Provisions; and select future scoping meeting locations.

4 p.m.-4:30 p.m.—Shrimp Management Committee will review the 2011 Texas Closure and decide whether to have a closure in 2012.

4:30 p.m.-5:30 p.m.—The Marine Recreational Information Program (MRIP) will give a presentation to the Full Council reviewing data reports.

5:30 p.m.-5:45 p.m.—Scientific & Statistical Committee (SSC) Selection Committee—Full Council (Closed Session) will review membership of the Spiny Lobster SSC and removal of Stone Crab Members; discuss replacement of a Member of the Shrimp SSC; and appoint additional Coral SSC Members.

—Recess—

Tuesday, January 31, 2012

8:30 a.m.-12 noon and 1:30 p.m.-5:30 p.m.—Reef Fish Management Committee will meet to discuss the Final Regulatory Amendment for Red Snapper Fall Closed Season Revision and 2012 Annual Catch Limit; review an Options Paper for a Regulatory Amendment for Red Snapper Weekend/Weekday openings; review and discuss the Gray Triggerfish update assessment; take Final Actions on Amendment 34—Crew Size and Income Requirement and Amendment 35—Greater Amberjack Rebuilding Plan Adjustments; Draft Amendment 36—Red Snapper IFQ Transferability; discuss Reef Fish Amendment 33—LAPP Program; review an Options Paper for Vermilion Snapper ACL Framework Action; discuss Reef Fish Framework Action for Red Snapper Payback Provisions for Overages; and discuss any additional SSC and AP comments.

—Recess—

Immediately following the Committee Recess will be the Informal Question & Answer Session on Gulf of Mexico Fishery Management Issues.

Wednesday, February 1, 2012

8:30 a.m.-10 a.m.—The Reef Fish Management Committee—Continued (see above).

10 a.m.-10:30 a.m.—The Joint Mackerel, Reef Fish and Red Drum Committees will discuss starting an amendment to develop Default Status Determination Criteria.

10:30 a.m.-11:30 a.m.—The Data Collection Committee will discuss the Generic Amendment for Dealer Permits and Electronic Reporting.

11:30 a.m.-12 noon—The Artificial Reef Committee will receive a presentation from Dr. Shipp on the role of artificial reefs in fishery management.

1:30 p.m.-3 p.m.—The Spiny Lobster Management Committee will take Final Action on Spiny Lobster Amendment 11.

—Recess—

Council

Wednesday, February 1, 2012

3 p.m.—The Council meeting will begin at with a Call to Order and Introductions.

3:05 p.m.-3:15 p.m.—The Council will review the agenda and approve the minutes.

3:15 p.m.-6:15 p.m.—The Council will receive public testimony on agenda items; Final Action on Reef Fish Amendment 34—Crew Size and Income Requirement; Final Action on Reef Fish Amendment 35—Greater Amberjack; Final Action on a Regulatory Amendment for Red Snapper Fall Closed Season Review and 2012 Annual Catch Limit (ACL); Final Action on Spiny Lobster Amendment 11; and exempted fishing permits (EFPs), if any. The Council will also hold an open public comment period regarding any other fishery issues of concern. People wishing to speak before the Council should complete a public comment card prior to the comment period.

Thursday, February 2, 2012

8 a.m.-8:30 a.m.—The Council will approve the Restoration Committee Membership and Develop Their Charge.

8:30 a.m.-8:45 a.m.—The Council will receive a presentation titled “Fisheries 101”.

8:45 a.m.-9:15 a.m.—The Council will receive a presentation on Lionfish in the Flower Garden Banks Sanctuary.

9:15 a.m.—4:15 p.m.—The Council will review and discuss reports from the committee meetings as follows: Shrimp, Mackerel, Reef Fish, Spiny Lobster, Joint Mackerel/Reef Fish/Red Drum, Data Collection, Artificial Reef, and Scientific & Statistical Committee Selection.

4:15 p.m.-4:45 p.m.—Other Business items will follow. The Council will conclude its meeting at approximately 4:45 p.m.

Although other non-emergency issues not on the agendas may come before the Council and Committees for discussion, in accordance with the Magnuson Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date/time established in this notice.

Special Accommodations

These meetings are physically accessible to people with disabilities. Requests for sign language interpretation or other auxiliary aids should be directed to Kathy Pereira at the Council (see ADDRESSES) at least 5 working days prior to the meeting.

Dated: January 6, 2012.
Tracey L. Thompson,
Acting Director, Office of Sustainable Fisheries, National Marine Fisheries Service.

[FR Doc. 2012-309 Filed 1-10-12; 8:45 am]

BILLING CODE 3510-22-P